FEDERAL COMMUNICATIONS COMMISSION

47 CFR Part 73

[DA 06-345, MM Docket No. 01-269, RM-10249]

Radio Broadcasting Services; Antlers, OK

AGENCY: Federal Communications Commission.

ACTION: Proposed rule; dismissal.

SUMMARY: At the request of Charles Crawford, the Audio Division dismisses the petition for rule making proposing the allotment of Channel 284A at Antlers, Oklahoma, as the community's third local aural transmission service. See 66 FR 52734, October 17, 2001. We also dismiss the counterproposals filed by Entravision Holdings, LLC and Radio One Licenses, Inc., because both counterproposals were considered and resolved in related proceedings.

FOR FURTHER INFORMATION CONTACT: Sharon P. McDonald, Media Bureau, (202) 418-2180.

SUPPLEMENTARY INFORMATION: This is a synopsis of the Commission's Report and Order, MM Docket No. 01-269, adopted February 15, 2006, and released February 17, 2006. The full text of this Commission decision is available for inspection and copying during normal business hours in the FCC Reference Information Center (Room CY-A257), 445 12th Street, SW., Washington, DC. The complete text of this decision may also be purchased from the Commission's copy contractor, Best Copy and Printing, Inc., Portals II, 445 12th Street, SW., Room CY-B402, Washington, DC 20054, telephone 1-800-378-3160 or http://www.BCPIWEB.com. This document is not subject to the Congressional Review Act. The Commission, is, therefore, not required to submit a copy of this Report and Order to GAO, pursuant to the Congressional Review Act, see 5 U.S.C. 801(a)(1)(A) because the proposed rule was dismissed.

Federal Communications Commission.
John A. Karousos,
Assistant Chief, Audio Division, Media Bureau.

[FR Doc. 06-2131 Filed 3-7-06; 8:45 am]

BILLING CODE 6712-01-P